DEPARTMENT OF THE INTERIOR

Bureau of Reclamation

Glen Canyon Dam Adaptive Management Work Group (AMWG), and Glen Canyon Technical Work Group (TWG); Notice of Meeting

AGENCY: Bureau of Reclamation, Interior.

ACTION: Cancellation of meeting; Notice of public meeting.

SUMMARY: The Bureau of Reclamation is cancelling the Adaptive Management Work Group Meeting scheduled for September 24-25, 2001, in Phoenix, Arizona, in lieu of the tragic events of September 11, 2001, and a subsequent Government directive to curtail travel unless mission critical. The meeting will be rescheduled for January 2002 and will be noticed in the Federal Register when arrangements have been made.

DATES AND LOCATION: The Glen Canyon Dam Technical Work Group will conduct the following public meeting:

Phoenix, Arizona—November 13-14, 2001. The meeting will begin at 9:30 a.m. and conclude at 5 p.m. on the first day and begin at 8 a.m. and conclude at 12 noon on the second day. The meeting will be held at the Bureau of Indian Affairs—Western Regional Office, 2 Arizona Center, Conference Rooms A and B (12th Floor), 400 North 5th Street, Phoenix, Arizona.

Agenda: The purpose of the meeting will be to discuss the following: AMP 2003 Budget, Information Needs, Protocol Evaluation Panel (PEP) recommendations, GCMRC long-term monitoring plans, native fish recovery goals, reconsultation on Kanab ambersnail, basin hydrology, environmental compliance, and other administrative and resource issues pertaining to the AMP.

Agenda items may be revised prior to any of the meetings. Final agendas will be posted 15 days in advance of each meeting and can be found on the Bureau of Reclamation website under Environmental Programs at: http://www.uc.usbr.gov. Time will be allowed on each agenda for any individual or organization wishing to make formal oral comments (limited to 10 minutes) at the meetings.

ADDRESSES: To allow full consideration of information by the AMWG and TWG members, written notice must be provided to Randall Peterson, Bureau of Reclamation, Upper Colorado Regional Office, 125 South State Street, Room 6107, Salt Lake City, Utah 84138-1147; telephone (801) 524-3758; faxogram (801) 524-3858; E-mail at rpeterson@uc.usbr.gov at least FIVE (5) days prior to the meeting. Any written comments received will be provided to the AMWG and TWG members at the meetings.

FOR FURTHER INFORMATION CONTACT: Randall Peterson, telephone (801) 524-3758; faxogram (801) 524-3858; rpeterson@uc.usbr.gov.

Dated: September 17, 2001.
Rick L. Gold,
Regional Director.

[FR Doc. 01-24938 Filed 10-3-01; 8:45 am]

BILLING CODE 4310-MN-M